DEPARTMENT OF DEFENSE

Department of Army; Corps of Engineers

Intent To Prepare a Draft Supplemental Environmental Impact Statement for the Design Modifications and Recreational Enhancements to the Wyoming Valley Levee Raising Project at the Wilkes-Barre, PA Historic River Commons

AGENCY: Department of the Army, Army Corps of Engineers, DoD.

ACTION: Notice of intent.

SUMMARY: Pursuant to the National Environmental Policy Act (NEPA), the U.S. Army Corps of Engineers (Corps), Baltimore District, will prepare a Draft Supplemental Environmental Impact Statement (DSEIS). The DSEIS will evaluate the potential impacts to the natural, physical, and human environment resulting from the proposed Design Modifications and Recreational Enhancements to the Wyoming Valley Levee Raising Project at the Wilkes-Barre, PA Historic River Commons. The project goal is to reconnect Wilkes-Barre's urban district to the Susquehanna River reclaiming the river as a civic resource for the daily life of the inhabitants and visitors and making the river an identifying topographic symbol of the city.

The DSEIS will include documentation of baseline conditions, an evaluation of the no action alternative, and an evaluation of the proposed project features and associated impacts. The features to be evaluated for the proposed project include two portals (i.e., pedestrian gates) through the levee, a river landing, a boat dock/pier, and an amphitheater. Details concerning these features are provided in Section 4 below.

DATES: A public scoping meeting is scheduled for November 6, 2002, at 7 p.m., Kings College Burke Auditorium in the McGowan Building, on the corner of River and Union Streets in Wilke-Barre.

ADDRESSES: Send written comments and suggestions concerning the scope of the DSEIS, requests to speak at the public scoping meeting, or special requests to enable participation at the scoping meeting (e.g., interpreter for the hearing-impaired) to: Amy M. Guise, CENAB-PL, U.S. Army Corps of Engineers, Baltimore District, 10 South Howard Street, P.O. Box 1715, Baltimore, MD, 21203-1715. Telephone (410) 962-2941 or Electronic Mail: amy.m.guise@usace.army.mil. Requests to be placed on the mailing list or receive a copy of the DSEIS should also be sent to this address.

FOR FURTHER INFORMATION CONTACT: To obtain additional information about the proposed project, contact Patricia Coury, CENAB-PL, U.S. Army Corps of Engineers, Baltimore District, 10 South Howard Street, P.O. Box 1715, Baltimore, MD, 21203-1715. Telephone (410) 962-2668 or Electronic Mail: patricia.coury@usace.army.mil.

SUPPLEMENTARY INFORMATION:

1. Public Participation

a. The Corps will conduct a public scoping meeting (see DATES) to gain input from interested agencies, organizations, and the general public concerning the content of the DSEIS, issues and impacts to be addressed in the DSEIS, and alternatives that should be analyzed.

b. The Corps invites full public participation to promote open communication and better decision-making. All persons and organizations that have an interest in the Design Modifications and Recreational Enhancements to the Wyoming Valley Levee Raising Project as they affect the community of Wilkes-Barre, Pennsylvania and the affected environment are urged to participate in this NEPA environmental analysis process. Assistance will be provided upon request to anyone having difficulty with learning how to participate.

c. Public comments are welcomed anytime throughout the NEPA process. Formal opportunities for public participation include: (1) The public scoping meeting to be held near the project site; (2) anytime during the NEPA process via mail, telephone or e-mail; (3) during the 45-day comment period on the Draft Environmental Impact Statement—approximately April to May, 2003; and, (4) review of the Final SEIS—August/September, 2003. Schedules and locations will be announced in local news media. Interested parties may also request to be included on the mailing list for public distribution of meeting announcements and documents. (See ADDRESSES).

d. To ensure that all issues related to the proposed project are addressed, the Corps will conduct an open process to define the scope of the DSEIS. Recommendations from interested agencies, local and regional stakeholders and the general public are encouraged to provide input in identifying areas of concern, issues and impacts to be addressed in the DSEIS, and the alternatives that should be analyzed. Scoping for the DSEIS will continue to build upon the knowledge and information developed by the Corps' investigations of flooding in the Wyoming Valley and the Susquehanna River basin.

e. Environmental issues will focus on, but are not limited to, effects on air quality, wetlands, water quality; fish and wildlife resources (including threatened and endangered species); hazardous, toxic, and radioactive waste; traffic; aesthetic resources; and cultural resources (including archaeological sites and historic architecture). The team will evaluate the environmental impacts (both adverse and beneficial) of the proposed actions.

2. Background

a. In 1999, the Luzerne County Flood Control Authority sponsored a citizens' participatory planning workshop to develop a community-based concept plan for the downtown Wilkes-Barre Susquehanna riverfront. This workshop culminated in a recommendation to the Authority that addressed how to develop the Wilkes-Barre Historic River Commons waterfront near the Market Street Bridge. The River Commons is part of the River Street Historic District and was listed on the National Register of Historic Places in 1980. Established in the 18th Century as the Central locale for the town, the River Commons is the area where both Fort Wyoming and Wilkes-Barre Fort were most likely located.

b. Based on the input, the Authority retained the services of a consultant to take the community's recommendations and develop them into a conceptual plan with preliminary drawings and a preliminary cost estimate. The project covers approximately 25 acres and runs over 4,200 feet from South Street at the west end at the Wilkes University campus to the Veterans Memorial Bridge and Luzerne County Courthouse near Kings College at its east end.

c. The Luzerne County Flood County Authority requested the Wilkes-Barre Riverfront Plan be added to the Wilkes-Barre section of the ongoing Wyoming Valley Levee Raising Project. Congressman Kanjorski also contacted the Corps requesting an evaluation of whether the features identified in the Riverfront Plan could be incorporated into the ongoing project. The Corps confirmed that they had the authority to undertake several of the proposed provisions, provided that they were technically feasible, environmentally acceptable, and economically justified.

3. Purpose and Need

a. The ongoing Wyoming Valley Levee Raising Project will project protection against flood flows that would be caused by a reoccurrence of Tropical Storm Agnes (June 1972). The project consists of raising existing levees and floodwalls between three and five feet; modifying closure structures, drainage structures, and pump stations; relocating utilities; adding minor recreation facilities; and providing some new levees, closure structures, and floodwalls to maintain the integrity of the existing flood control system.

b. The Wyoming Valley Levee Raising Project's 1996 Phase II General Design Memorandum/Environmental Impact Statement recognized that there would be detrimental impacts to communities where flood protection passed through residential and commercial areas. Where possible, the levee raising design was to be sensitive to aesthetic, recreation, and environmental consideration. Contemporary Corps' projects incorporate a number of design features within urban areas to minimize the effects of large flood control projects on urban waterfronts. The purpose of modifying the Levee Raising Project through the Historic River Commons is to reconnect Wilkes-Barr's downtown to the Susquehanna River. These modifications will help reclaim the river as a civic resource for the daily life of residents and visitors and to make the river a unique amenity for the city.

4. Proposed Action and Alternatives

a. The proposed action is to modify flood damage reduction structures (e.g., floodwall, levee, etc.) along the downtown Wilkes-Barre waterfront featuring more current urban flood protection design practices, methods, and materials. The features being considered for the proposed action include:

(1) Upstream Portal—An approximately 60-foot wide and 12-foot high upstream portal through the levee and a bridge above would provide pedestrian and emergency access to the Susquehanna River just upstream of the Market Street Bridge at the same grade as the Historic River Commons. During a flood event the portal would be closed with flood gates.

(2) Downstream Portal—An approximately 60-foot wide and 12-foot high downstream portal across from the Northampton Street and River Street intersection that would provide similar pedestrian and emergency access to the Susquehanna River. During a flood event the portal would also be closed with flood gates.

(3) River Landing—Upstream of the Market Street Bridge, a River Landing would be constructed upon the existing stability berm (approximately 900 feet long x 70 feet wide) that was previously constructed in 1999. When completed, this River Landing would create a concrete-surfaced, 1.2-acre riverfront plaza for people to congregate for waterfront events (e.g., concerts, 4th of July fireworks, art shows, ethnic food festivals, etc.). A series of bollards, or similar structures, at the edge of the River Landing would provide for pedestrian safety. The River Landing would require limited re-grading, reconfiguring, and a riverside expansion of the rock stability berm to accommodate the necessary features.

(4) Pier/Dock—Connected to the River Landing would be a 340-foot long and 12-foot wide boating/fishing pier. Access to the pier would be via a fixed ramp directly from the River Landing. The dock itself would not have permanent boat slips, but would have adequate fendering to provide a location where boats could temporarily tie-up for a few hours at a time (public landing). The feature would compliment the existing boat launch in Nesbitt Park, across the river in Kingston, by providing additional areas for public access for fishing and recreational boating.

(5) Amphitheater and Stage—The amphitheater and stage would be constructed just downstream of the Market Street Bridge but upstream of the Downstream Portal. The amphitheater would consist of large stones or reinforced concrete blocks placed into the slope to provide bench seating for approximately 750 people. One row of seats would be above the existing riverside access road and the majority of the rows would be below the riverside access road grade. The performance stage would be built of sheetpile and concrete slightly above the existing grade near the river's edge.

(6) Paving Riverside Access Road—At the completion of the levee raising and the Riverfront Plan, the riverside access road at the base of the riverside of the levee would be paved as an element to the riverfront development plan. The paving of this road would be an improvement for recreational purposes and provide a biking/jogging/walking trail along the riverside toe of the levee.

(7) Miscellaneous Recreational Accoutrements—The flood control project—as designed and constructed throughout the Wyoming Valley—includes recreational features in the basic design. This reach of the Wilkes-Barre levee would include similar recreational features such as lights, seating areas with benches, trees/vegetation, educational kiosks, and trash receptables.

b. Alternatives for Evaluation. (1) The DSEIS will describe and assess the following 5 alternatives: No Action; Portals Only; Portals and River Landing; Portals, River Landing, and Boat Dock/Pier; Portals, River Landing, Boat Dock/Pier, and Amphitheater; and Stage.

(2) These alternatives, along with no action, will be the alternatives the Corps initially proposes to evaluate in the DSEIS. As necessary, reasonable alternatives that may become apparent as the evaluation proceeds will be addressed.

(3) The Miscellaneous Recreational Accoutrements and Paving of the Riverside Access Road will be evaluated in the DSEIS, but would be evaluated separately as actions to be conducted regardless of the alternative selected.

Luz D. Ortiz,
Army Federal Register Liaison Officer.

[FR Doc. 02-27156 Filed 10-23-02; 8:45 am]

BILLING CODE 3710-41-M